NUCLEAR REGULATORY COMMISSION

10 CFR Part 26

[Docket No. PRM-26-6; NRC-2010-0310]

Erik Erb—Minimum Day Off Requirement for Security Officers

AGENCY: Nuclear Regulatory Commission.

ACTION: Petition for rulemaking; withdrawal by petitioner.

SUMMARY: The U.S. Nuclear Regulatory Commission (NRC) is announcing the withdrawal, without prejudice to a future filing, of a petition for rulemaking (PRM), PRM-26-6, “Minimum Day Off Requirement for Security Officers,” submitted to the NRC by Erik Erb and 91 co-signers (the petitioners) on August 17, 2010. The petitioners requested that the NRC amend its regulations to decrease the minimum days off requirement for security officers working 12-hour shifts from an average of 3 days per week to 2.5 or 2 days per week. The petitioner withdrew PRM-26-6 by email dated December 10, 2019.

DATES: PRM-26-6 was withdrawn on December 10, 2019.

ADDRESSES: Please refer to Docket ID NRC-2010-0310 when contacting the NRC about the availability of information for this action. You may obtain publicly available information related to this action by any of the following methods:

• Federal Rulemaking Website: Go to http://www.regulations.gov and search for Docket ID NRC-2010-0310. Address questions about NRC dockets to Dawn Forder; telephone: 301-415-3407; email: Dawn.Forder@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in the SUPPLEMENTARY INFORMATION section.

• Attention: The PDR, where you may examine and order copies of public documents, is currently closed. You may submit your request to the PDR via email at PDR.Resource@nrc.gov or call 1-800-397-4209 between 8:00 a.m. and 4:00 p.m. (EST), Monday through Friday, except Federal holidays.

FOR FURTHER INFORMATION CONTACT: Yanely Malave, Office of Nuclear Material Safety and Safeguards, U.S. Nuclear Regulatory Commission, Washington, DC 20555-0001; telephone: 301-415-1519, email: Yanely.Malave-Velez@nrc.gov.

SUPPLEMENTARY INFORMATION: On August 17, 2010, the petitioner submitted PRM-26-6 to the NRC requesting that it amend its fitness-for-duty regulations to decrease the minimum days off requirement from an average of 3 days per week to 2.5 or 2 days per week for security officers working 12-hour shifts (ADAMS Accession No. ML102630127). On November 23, 2010, the NRC published a notice of receipt of, and request for public comment on PRM-26-6 in the Federal Register (75 FR 71368). The NRC received 5 comment letters from corporations, professional organizations, and private citizens. The NRC initially determined that the issues raised in PRM-26-6 would be considered in the “Quality Control/Quality Verification” rulemaking (Docket ID: NRC-2009-0090) and published a Federal Register notice (76 FR 28191) on May 16, 2011, to this effect. On December 9, 2015, the NRC published a notice in the Federal Register discontinuing the QC/QV rulemaking (80 FR 76394). By email dated December 10, 2019, the petitioner withdrew PRM-26-6 (ADAMS Accession No. ML20006D919).

Dated December 3, 2020.
For the Nuclear Regulatory Commission.
John R. Tappert,
Director, Division of Rulemaking, Environmental, and Financial Support, Office of Nuclear Materials Safety and Safeguards.

[FR Doc. 2020-27124 Filed 12-17-20; 8:45 am]

BILLING CODE 7590-01-P